LEGAL SERVICES CORPORATION

Sunshine Act Meeting

TIME AND DATE: The Finance and the Institutional Advancement Committees of the Legal Services Corporation Board of Directors will meet virtually on July 11, 2024. The Finance Committee meeting will begin at 10 a.m. EDT and will continue until the conclusion of the Committee's agenda. The Institutional Advancement Committee meeting will begin at 11 a.m. EDT and will continue until the conclusion of the Committee's agenda.

PLACE:

Public Notice of Virtual Meeting. LSC will conduct the July 11, 2024, meetings via Zoom.

Public Observation: Unless otherwise noted herein, the Finance and the Institutional Advancement Committees meeting will be open to public observation via Zoom. Members of the public who wish to participate remotely in the public proceedings may do so by following the directions provided below.

Directions for Open Sessions

Thursday, July 11, 2024—Finance Committee Meeting

To join the Zoom meeting by computer, please use this link.

• https://lsc-gov.zoom.us/j/83918879636?pwd=AxtS86zbWFaTWsSa6zwUWbmnN0LbSR.1&from=addon

○ Meeting ID: 839 1887 9636

○ Passcode: 71124

To join the Zoom meeting with one tap from your mobile phone, please click dial:

○ +13017158592,,88527065662# US (Washington DC)

○ +16468769923,,88527065662# US (New York)

To join the Zoom meeting by telephone, please dial one of the following numbers:

○ +1 301 715 8592 US (Washington, DC)

○ +1 646 876 9923 US (New York)

○ +1 312 626 6799 US (Chicago)

○ +1 346 248 7799 US (Houston)

○ +1 408 638 0968 US (San Jose)

○ +1 669 900 6833 US (San Jose)

○ +1 253 215 8782 US (Tacoma)

○ ID: 839 1887 9636

○ Passcode: 71124

Thursday, July 11, 2024—Institutional Advancement Committee Meeting

To join the Zoom meeting by computer, please use this link.

• https://lsc-gov.zoom.us/j/81390549743?pwd=6VoBIl3lD31lup2NkxEI6VDVNIGEWF.1&from=addon

○ Meeting ID: 813 9054 9743

○ Passcode: 71124

To join the Zoom meeting with one tap from your mobile phone, please click dial:

○ +13017158592,,88527065662# US (Washington DC)

○ +16468769923,,88527065662# US (New York)

To join the Zoom meeting by telephone, please dial one of the following numbers:

○ +1 301 715 8592 US (Washington, DC)

○ +1 646 876 9923 US (New York)

○ +1 312 626 6799 US (Chicago)

○ +1 346 248 7799 US (Houston)

○ +1 408 638 0968 US (San Jose)

○ +1 669 900 6833 US (San Jose)

○ +1 253 215 8782 US (Tacoma)

○ ID: 813 9054 9743

○ Passcode: 71124

Once connected to Zoom, please immediately mute your computer or telephone. Members of the public are asked to keep their computers or telephones muted to eliminate background noise. To avoid disrupting the meetings, please refrain from placing the call on hold if doing so will trigger recorded music or other sound.

From time to time, the Finance or the Institutional Advancement Committee Chairs may solicit comments from the public. To participate in the meeting during public comment, use the `raise your hand' or `chat' functions in Zoom and wait to be recognized by the Chair before stating your questions and/or comments.

MATTERS TO BE CONSIDERED:

Meeting Schedule

Thursday, July 11, 2024

Start Time: 10 a.m. EDT

Finance Committee

Open to the Public

1. Approval of Meeting Agenda

2. Discussion and Public Comment Regarding LSC's Fiscal Year 2026 Budget Request

3. Consider and Act on Resolution #2024-XXX: Adopting LSC's Budget Appropriation Request for Fiscal Year 2026

4. Public Comment

5. Consider and Act on Other Business

6. Consider and Act on Adjournment of Meeting

Thursday, July 11, 2024

Start Time: 11 a.m. EDT

Institutional Advancement Committee

Open to the Public

1. Approval of Agenda

2. Approval of Minutes of the Institutional Advancement Committee's Open Session Meeting on April 3, 2024

3. Update on Leaders Council and Emerging Leaders Council

4. Development Report

5. Public Comment

6. Consider and Act on Other Business

7. Consider and Act on Motion to Adjourn the Open Session Meeting and Proceed to a Closed Session

Portions Closed to the Public

8. Approval of Minutes of the Institutional Advancement Committee's Closed Session Meeting on April 3, 2024

9. Approval of Minutes of the Institutional Advancement Committee's Closed Session Meeting on January 23, 2024

10. Development Report

11. Consider and Act on Motion to Approve Leaders Council and Emerging Leaders Council Invitees

12. Consider and Act on Other Business

13. Consider and Act on Motion to Adjourn the Meeting

CONTACT PERSON FOR MORE INFORMATION: Cheryl DuHart, Administrative Coordinator, at (202) 295-1621. Questions may also be sent by electronic mail to duhartc@lsc.gov.

Non-Confidential Meeting Materials: Non-confidential meeting materials will be made available in electronic format at least 24 hours in advance of the meeting on the LSC website, at https://www.lsc.gov/about-lsc/board-meeting-materials.

(Authority: 5 U.S.C. 552b.)

Dated: June 28, 2024.
Stefanie Davis,
Deputy General Counsel, Legal Services Corporation.

[FR Doc. 2024-14644 Filed 6-28-24; 4:15 pm]

BILLING CODE 7050-01-P